DEPARTMENT OF HEALTH AND HUMAN SERVICES

Substance Abuse and Mental Health Services Administration

Current List of Laboratories Which Meet Minimum Standards To Engage in Urine Drug Testing for Federal Agencies

Correction

In notice document 2010-7170 beginning on page 16813 in the issue of Friday, April 2, 2010, make the following correction:

On page 16814, in the first column, in the list following the second full paragraph, the listings for ACM Medical Laboratory, Inc. and Advanced Toxicology Network were combined.

The listings should be separated and read as follows:

ACM Medical Laboratory, Inc.,160 Elmgrove Park,Rochester, NY 14624,585-429-2264;

Advanced Toxicology Network,3560 Air Center Cove, Suite 101,Memphis, TN 38118,901-794-5770 / 888-290-1150;

[FR Doc. C1-2010-7170 Filed 4-26-10; 8:45 am]

BILLING CODE 1505-01-D